FEDERAL HOUSING FINANCE BOARD

Sunshine Act Notice

Federal Register Citation of Previous Announcement: 66 FR 56676, November 9, 2001.

Previously Announced Time and Date of the Meeting: 10 A.M., Wednesday, November 14, 2001.

Change of Meeting Date: Notice is hereby given that the Board of Directors meeting scheduled for November 14, 2001 has been changed to Wednesday, November 28, 2001 at 10 a.m.

CONTACT PERSON FOR MORE INFORMATION: Elaine L. Baker, Secretary to the Board, (202) 408-2837.

James L. Bothwell,
Managing Director.

[FR Doc. 01-28921 Filed 11-15-01; 11:09 am]

BILLING CODE 6725-01-P